DEPARTMENT OF ENERGY

Federal Energy Regulatory Commission

[Project No. 6032]

Niagara Mohawk Power Corporation and Fourth Branch Associates (Mechanicville); Notice of Meeting

April 14, 2003.

On August 12, 2002, the Commission issued an order accepting surrender of the license for the Mechanicville Project No. 6032.¹ The order required Niagara Mohawk Power Corporation (NIMO) to submit plans and schedules for, among other things, complying with the Commission's regulations concerning dam safety (18 CFR part 12) and for recording historic resources associated with the project prior to the effective date of surrender.

¹ 99 FERC ¶ 61,227 (2002), reh'g denied, 100 FERC ¶ 61,185 (2002), request for reconsideration pending.

On Tuesday, April 29, 2003, at 11 a.m., in a room to be designated at the offices of the Federal Energy Regulatory Commission, 888 First Street, NE., Washington, DC, 20426, Commission staff will hold a conference to hear a proposed settlement between NIMO and Fourth Branch Associates (Mechanicville) for the disposition of the Mechanicville Project. Parties to the proceeding and all interested persons will be permitted to attend.

Any party or interested person who is planning to attend this meeting should notify Commission staff before 4:30 pm, Thursday, April 24, 2003. Please notify Heather Campbell, Office of Energy Projects, Rm 5J-02, in writing, or by calling at 202-502-6182. If any local, state or federal authorized agency representative is unable to attend but wishes to participate by teleconferencing, please so indicate. Teleconferencing details will be provided later.

Magalie R. Salas,
Secretary.

[FR Doc. 03-9561 Filed 4-17-03; 8:45 am]

BILLING CODE 6717-01-P